DEPARTMENT OF HEALTH AND HUMAN SERVICES

Administration for Children and Families

Grants and Cooperative Agreements; Availability, etc.: Child Development Associate Credentialing Program

Program Office: Administration on Children, Youth and Families Head Start Bureau.

Funding Opportunity Title: Child Development Associate (CDA) National Credentialing Program.

Announcement Type: Cooperative Agreement.

Funding Opportunity Number: HHS-2005-ACF-ACYF-YD-0064.

CFDA Number: 93.600.

Due Date for Applications: September 23, 2005.

Executive Summary: The Administration for Children and Families (ACF), Administration on Children, Youth and Families (ACYF) announces the availability of $1,000,000 annually for each of five years to support staff development for all individuals employed in local Head Start, Early Head Start, and other child care programs to increase the understanding and skills necessary to carry out their jobs, as well as professional development leading to credentials and degrees. A cooperative agreement is a form of Federal financial assistance that allows substantial Federal involvement in the activities for which funds are awarded.

I. Funding Opportunity Description

Head Start is a national program that provides comprehensive developmental services for preschool children, ages three through five, and under the Early Head Start program for infants, toddlers, and pregnant women. Since the inception of Head Start in 1965, over 22 million children and their families have been served. In 2004, nearly 900,000 Head Start and Early Head Start children and their families and 6,227 pregnant women received services based on the requirements of The Head Start Program Performance Standards and Other Regulations.

The Head Start Act as amended in 1998, Sec. 648(e) (42 U.S.C. 9843), Technical Assistance and Training, requires that the Secretary shall provide, either directly or through grants or other arrangements, funds from programs authorized under this subchapter to support an organization to administer a centralized child development and national assessment program leading to recognized credentials for personnel working in early childhood development and child care programs.

In 2004, 47,000 classrooms were staffed with more than 56,208 infant, toddler, and preschool teachers, and 52,541 assistant teachers. Also, 5,293 home visitors worked with individual parents to support their role as their “child's first teacher.” In addition, 1,810 family child care providers delivered comprehensive child development services. Programs are located nationwide, including in settings that serve American Indians, Alaska Natives, Migrant and Seasonal Workers.

Development and Implementation of the CDA National Credentialing Program in the 1970s

In 1970, the Head Start Bureau announced its commitment to improve the quality of child care by focusing on staff competence. In 1971, the Bureau convened a task force of leaders in the fields of child development and early childhood education to elicit their suggestions and their support in establishing professional recognition for competent child development personnel. The task force envisioned a nationally supported effort to:

—Identify basic competencies (skills) needed by staff to provide competent care;

—Provide training for caregivers in these competencies; and

—Evaluate the work of caregivers on the basis of these national standards and recognize them with a national credential or award.

Based on the recommendations of the task force, competencies were identified and standardized assessment procedures, by which to assess candidates, were developed. In 1975, the first credential was awarded by The Child Development Associate (CDA) National Credentialing Program.

In the 1980s, CDA training standards were developed and a process was established for approving training institutions to provide early childhood training and to prepare the candidate for successful CDA assessment: The CDA Professional Preparation Program (CDA P3). To support postsecondary institutions offering the CDA P3, a training curriculum was developed entitled “Essentials for Child Development Associates.” This curriculum serves as the core content of the CDA P3 training.

Credentialed to Date

The number of candidates credentialed each year has steadily grown from approximately 2,000 to more than 13,000. As of March 2005, 183,567 CDA credentials had been awarded to home visitors, family child care providers, teachers of infants and toddlers, and teachers of preschool age children. This included staff working in a variety of settings—Head Start, Early Head Start, Even Start, State Pre-K, Title 1, faith-based preschools, and in the various military sectors. The initial CDA credential is valid for three years and may be renewed for the same setting and age-level endorsement for five-year periods thereafter, based on evidence of professional growth.

The candidate's cost of the CDA application and assessment process is maintained at $325, because many of the candidates have limited income and a large number of them are former or current Head Start parents. The actual cost of the CDA credentialing process exceeds the candidate's cost of $325 and is covered by Federal funds awarded to the agency or organization selected to administer the Head Start CDA National Credentialing Program. In 1992, both the House and Senate Appropriations Committees directed the Department of Health and Human Services to continue to allocate Head Start funds to administer the CDA National Credentialing Program and to maintain the cost of the credential at $325.

Recognition and Continued Need for the CDA National Credentialing Program

The CDA credential is widely recognized and respected. Forty-eight states, the District of Columbia, and Puerto Rico recognize the CDA credential within their licensing regulations for child care centers. This enables staff to move from state-to-state with recognition of their CDA credential and qualifications.

Another indication of the CDA's credibility is that the credential is earned by thousands of persons each year who are employed under a variety of auspices beyond Head Start and Early Head Start. This includes military-sponsored programs, church-based, private-for-profit, State funded preschools, and programs funded by the Department of Education.

In addition, since 1998, Sec. 648A of the Head Start Act has required that not later than September 30, 2003, at least 50 percent of all Head Start teachers nationwide in center-based programs have an associate, baccalaureate, or advanced degree in early childhood education; or an associate, baccalaureate, or advanced degree in a field related to early childhood education, with experience in teaching preschool children. Alternatively, for each Head Start classroom in center-based programs that do not have a teacher with these qualifications, the Act states that one way of meeting this national degree requirement is to assign a teacher in each such classroom who has a CDA credential appropriate to the age of children being served in center-based programs. The two remaining credentialing alternatives are either a State-awarded certificate for preschool teachers that meets or exceeds the requirements for a child development associate credential, or a degree in a field related to early childhood education with experience in teaching preschool children and a State-awarded certificate to teach in a preschool program.

As of September 2005, 65 percent [36,477] of Head Start and Early Head Start teachers hold a qualifying degree as compared to 37 percent in 1998. In addition, 26 percent [14,681] hold a CDA or equivalent State-issued certificate. Of this number, 46.5 percent [6,837] are enrolled in early childhood education degree programs. Also, 1,585 teachers who do not have a CDA are enrolled in degree programs. Although good overall progress has been made, there still are a number of individual programs without qualified teachers.

Other factors that impact the necessity for credentialed infant, toddler, and preschool teachers include welfare reform and military deployment of parents. Welfare reform requires low-income mothers to engage in work-training and employment. This necessitates that they locate safe child care services for their young children. In military families, a more recent demand is due to one or both parents being deployed on active military duty.

Program Purpose

The CDA National Credentialing Program created through this announcement will credential qualified caregivers who work with children, birth to age five, in a variety of public and private agency settings, and in a variety of roles, including as center-based teachers of infants and toddlers or preschool age children; as home visitors; or as family child care providers.

The CDA National Credentialing Program will work closely with Head Start grantees and delegate agencies to support the provision of qualified staff as local programs work to provide high quality and effective services to children and families; address the emerging priorities of assessing and fostering progress towards specific child outcomes; and working with increasing numbers of English language learners. To serve Head Start agencies effectively, the CDA National Credentialing Program will establish ongoing communication and cooperation with various community colleges and universities, including the Historically Black Colleges and Universities, Hispanic Service Institutions, Tribally Controlled Land Grant Colleges and Universities, the Head Start State Collaboration Offices, the Head Start Quality Research Centers, and the Head Start Technical Assistance Network including the Electronic Learning Center.

The need for qualified, credentialed staff is an urgent matter. Although steady progress has been made to ensure that Early Head Start and Head Start children have qualified teachers, the challenge continues. Grantees and delegate agencies are serving nearly one million children, families, and pregnant women, annually, while experiencing an annual turnover of nearly 15 percent among teachers; and 10 percent among assistant teachers, home visitors, and family child care providers. A unique challenge is to assess and credential qualified candidates within a 30-day period for Migrant and Seasonal, and American Indian and Native Alaskan programs due primarily to shortened seasons for the Migrant programs and to the geographic isolation of American Indian communities. The Head Start program continues to maintain a commitment to preserving opportunities for Head Start and Early Head Start parents and community members to gain employment in entry level positions, to develop professionally, and to advance up the career ladder, including to jobs as teachers. Supporting teacher assistants (52,541 in year 2004) to earn the CDA not only opens a pathway to their professional development, it also ensures that children and families have a more knowledgeable and skilled classroom team. Many of the 7,000 Head Start and Early Head Start home visitors and family day care providers are likely to be candidates for the CDA.

The Head Start Act (as amended October 27, 1998) is in the process of being reauthorized by Congress. It is expected that the need and support for the CDA National Credentialing Program will be maintained within the reauthorized Act. The Head Start Bureau's estimate of the number of candidates to be credentialed annually includes staff from the various sectors of child care that are also likely to apply for CDA assessment and credentialing.

Definitions

Assessment System—The process by which competence is evaluated by the CDA National Credentialing Program. The CDA Assessment System includes application, information collection, validation, and credential award.

Bilingual Specialization—An applicant for CDA assessment may be assessed for a bilingual specialization. The applicant must be able to speak, read, and write two languages well enough to understand and be understood by others, and work in a program where the two languages and cultures are used consistently with adults and children. A bilingual specialization candidate is assessed on the basis of competence in all 13 of the required functional areas and in their ability to promote children's bilingual development.

CDA—An individual who has successfully completed a Child Development Associate assessment and has been awarded the CDA credential and is able to meet the specific needs of children and who, with parents and other adults, works to nurture children's physical, social, emotional, and intellectual growth in a child development framework. The CDA behaves in an ethical manner. The CDA demonstrates competence in the CDA competency goals through work in center-based, home-based, or family child care.

CDA Professional Preparation Program (CDA P3)—A one-year, college training program that offers candidates child development coursework and field experiences in child care settings to enable them to build the necessary skills to become a CDA.

Competence—Skill or ability to do something well.

Competency Goals—General statements of competence that a caregiver should work towards. There are six CDA competency goals: I. To establish and maintain a safe, healthy learning environment; II. To advance physical and intellectual competence; III. To support social and emotional development and provide positive guidance; IV. To establish positive and productive relationships with families; V. To ensure a well-run, purposeful program responsive to participants needs; and VI. To maintain a commitment to professionalism.

Competency Standards—Criteria that define the goals and skills that a competent child care provider, home visitor, or family child care provider should demonstrate in working with young children. The Competency Standards consist of six goals, 13 functional areas, and examples of competent behavior. They were developed and validated by the early childhood profession and the CDA National Credentialing Program.

Credential—A written document from an authorizing body showing that a person has met certain standards. The CDA Credential is awarded to those who have demonstrated competence in the CDA Competency Standards during the CDA assessment process.

Dual Credential—A CDA credential earned in more than one endorsement area.

Essentials—“Essentials for Child Development Associates Working with Young Children,” a college training curriculum.

Functional Area—A category of responsibility that defines a caregiver's competency in relation to children. The six CDA competency goals are divided into functional areas.

Priority Area

To Administer the Child Development Associate (CDA) National Credentialing Program.

1. Description

The CDA National Credentialing Program created through this announcement will credential qualified caregivers who work with children from birth to age five, in a variety of public and private agency settings, and in a variety of roles, including as center-based teachers of infants and toddlers or preschool age children, as home visitors, or as family child care providers.

Requirements of This Cooperative Agreement: The CDA National Credentialing Program Roles And Responsibilities

—Maintain a national credentialing program for the assessment of competencies of teachers of infants and toddlers, teachers of preschool age children, home visitors, and family child care providers, including with a bilingual specialization in Spanish; and the award of the CDA credential.

—Ensure that CDAs will be credentialed in numbers sufficient to meet the staffing needs of Early Head Start and Head Start grantee and delegate agencies; and staff from the various sectors of child care. This is estimated at 12,000 candidates for each of five years, beginning in fiscal year (FY) 2005.

—Promote and support CDA credentialing among qualified candidates nationally. This includes rural, urban, American Indian reservations, Alaskan villages, the Outer Pacific, and in Migrant settings, taking into consideration that each community has varying levels of educational and training resources.

—Maintain a sufficient number of geographically distributed Field Advisors to monitor the candidates' progress and provide guidance for the application of the principles in Essentials; and maintain a sufficient number of qualified and trained CDA Representatives to assess candidates.

—Maintain a process for the renewal of the CDA credential. The initial CDA credential is valid for three years and may be renewed for the same setting and age-level endorsement for five-year periods thereafter based on evidence of continuous professional growth. Maintain the fee for renewal at $50.

—Provide a process to assess credentialed CDAs seeking a dual credential endorsement at a fee lower than the initial credentialing fee.

—Maintain a process to ensure the assessment and credentialing of qualified Migrant and Seasonal Program staff within a 30-day period.

— Maintain two approaches to candidate assessment and credentialing: The direct assessment route, and the CDA Professional Preparation Program—the CDA P3.

—Identify where candidates may enroll in the CDA P3 through on-line enrollment.

—In conjunction with the ACYF maintain the CDA credentialing fee at $325.

—Convene annually a representative group of approximately 10 people from Head Start and Early Head Start programs, colleges and universities, parents, State licensing agencies, Head Start TA Network, Head Start State Collaboration Offices to facilitate access of Head Start and Early Head Start staff to degree-awarding programs with credit-recognition for the CDA.

—Maintain regular communication with Head Start and Child Care Technical Assistance Networks to provide candidate assessment and credentialing information, and to engender their assistance in recruiting Advisors for the CDA Direct Assessment process.

—Participate in national meetings of the Head Start Technical Assistance Network as convened by ACYF.

—Join ACYF in conducting open forums at selected events identified by the Head Start Bureau. The purpose of the forums will be to solicit and encourage comment and input by the early childhood education and child care fields as to the best ways in which the objectives of the CDA program may be achieved and to provide information regarding CDA credentialing.

—Promote interest in, and understanding of, the CDA Credential through a variety of methods such as, the publication and dissemination of a newsletter to provide information to potential candidates to highlight the experiences and successes of individuals who earn the CDA Credential, to provide information regarding times and places of available training for candidates, and to illustrate the connections between qualified staff and quality outcomes for children and their families.

—On a case-by-case basis, consider assessment requests from CDA Candidates in bilingual programs using language combinations other than Spanish/English.

—Collect data about CDAs credentialed under the direct assessment system and the CDA Professional Preparation Program (P3) in order to determine if changes might be needed in either/both of the systems to make it/them more efficient and more supportive of candidates.

—Update, publish, and disseminate the “National Directory of Early Childhood Teacher Preparation Institutions,” which lists institutions that offer Early Childhood training and the credits, degrees, and certificates awarded.

—Maintain a strong network of cooperating postsecondary education institutions for the CDA P3 by securing new, as well as, ongoing institutional recommitment.

—Communicate directly with Head Start grantee and delegate agencies, and the Head Start Technical Assistance Network to support them in negotiating and securing the cooperation of local colleges in the delivery of various types of CDA training for Head Start and child care staff.

—Assist the Head Start Bureau and Regional Office CDA Liaisons to stay current regarding assessment and credentialing, including joining Head Start Bureau staff in periodic conference calls with the Regional Offices.

—Respond to requests from grantee and delegate agencies for: Materials and information regarding assessment and credentialing; arranging candidate assessments; arranging enrollments in the CDA P3 program and coordinating with the candidate, his or her agency, and the institution of higher learning; handling candidate fees and award certificates; and responding to requests for local workshop presentations, as feasible.

—Conduct at least one CDA information workshop during a statewide or regional conference in each region or combined region, annually. The fourth quarterly report will include the summary of these activities.

—Assist the Head Start Bureau in strengthening linkages with the child care community by including child care networks, agencies, and organizations on the mailing list; disseminating information regarding CDA to the child care community, including individual providers, as possible; and promoting the availability of the CDA for Family Child Care Providers.

—Assist ACYF to conceptualize and support the roles of mentors among staff, including family child care providers, home visitors, infant and toddler teachers, preschool teachers, and possibly other members of the Head Start and child care team in keeping with the Head Start Program Performance Standards, which integrate comprehensive services for children, birth to age five, and services for pregnant women.

—Establish and maintain a process to identify and determine State-by-State, if State-awarded certificate(s) for preschool teachers and infant and toddler teachers are equivalent to the CDA credential, and if they are “State-awarded”, thus meeting the Head Start Teacher Qualifications Mandate of 1998. Review findings of the State's credential with Head Start Bureau staff. The Associate Commissioner of the Head Start Bureau will determine if a State's certification meets the Teacher Qualification Mandate. The Associate Commissioner will notify the State and Regional Office, accordingly.

—Develop, and keep current for the Head Start Bureau, a printout of the various State credentials reviewed and the findings.

—Provide quarterly reports that include an overview of the number and type of credentials awarded during the past quarter, year-to-date, and 1971-to-date according to each State, and also by Migrant and Seasonal Programs, and American Indian and Native Alaskan Programs.

—Meet with the ACYF bi-monthly, or as requested, to assess progress regarding the scope of work of the cooperative agreement.

II. Award Information

Funding Instrument Type: Cooperative Agreement.

Substantial Involvement With Cooperative Agreement: Federal involvement in the CDA National Credentialing Program will include substantial roles for the Head Start Bureau, which includes the American Indian and Native Alaskan Programs Branch, the Migrant and Seasonal Programs Branch, and the ACF Regional Offices each of which provide a CDA Liaison to serve as the primary point of contact for grantee and delegate agencies in their regions regarding staff qualification requirements as mandated by Section 648A of the Head Start Act and by the Head Start Program Performance Standards and Other Regulations. The Head Start Bureau will also ensure that the programs of the ACF Child Care Bureau will be supported through the CDA National Credentialing Program.

Supporting the CDA National Credentialing Program through a cooperative agreement will ensure cooperation and coordination in the provision of credential awards to qualified candidates nationally. The close involvement of the Head Start Bureau in the implementation of this cooperative agreement will also help the CDA Program to be sensitive and responsive to the challenges meeting candidates working in a variety of program settings located in communities with varying levels of educational and training resources.

—Provide the time and expertise of the Federal Project Officer (FPO) to help the CDA National Credentialing Program ensure that CDAs will be credentialed in numbers sufficient to meet the staffing needs of Early Head Start and Head Start grantee and delegate agencies. This is estimated at 8,000 candidates annually for the five-year period beginning in FY 2005.

—The FPO will participate in national meetings of the Head Start Technical Assistance Network as convened by ACYF, as a means of supporting and assisting the CDA National Credentialing Program in their collaboration with this important group of technical assistance providers.

—The FPO will attend the annual meeting of a representative group of approximately 10 people to facilitate access of Head Start and Early Head Start staff to degree-awarding programs with credit-recognition for the CDA.

—The FPO will facilitate and support the CDA National Credentialing Program's communications and coordination with the Federal Regional Offices (I-X), the Migrant and Seasonal Programs Branch, and the American Indian and Native Alaskan Programs Branch.

—The FPO will join the CDA National Credentialing Program in conducting forums at selected events identified by ACYF.

—The FPO will assure that ACYF considers and responds promptly to the CDA National Credentialing Program's recommendations regarding individual States that award credentials meeting the Head Start Teacher Qualifications Mandate of 1998.

—The FPO will meet with the CDA National Credentialing Program staff bi-monthly to assess progress regarding the scope of work of the cooperative agreement, and to provide guidance and direction, and information regarding possible changes in national Head Start policy or initiatives.

—Early Head Start and Head Start grantee and delegate agencies will direct all inquiries regarding assessment and credentialing directly to the CDA National Credentialing Program. Grantee and delegate agencies and/or individual candidates will also arrange directly with the CDA National Credentialing Program the dates and places of candidates' assessments; enrollments in the CDA P3 Program; handling and submission of fees; requests for workshops by staff of the CDA National Credentialing Program; and other similar matters.

Anticipated Total Priority Area Funding: $1,000,000.

Anticipated Number of Awards: 1.

Ceiling on Amount of Individual Awards: $1,000,000 per budget period.

Floor on Amount of Individual Awards: $1,000,000 per budget period.

Average Projected Award Amount: $1,000,000 per budget period.

Length of Project Periods: 60-month project with five 12-month budget periods.

III. Eligibility Information

1. Eligible Applicants

• State controlled institutions of higher education.

• Non-profits having a 501(c)(3) status with the IRS, other than institutions of higher education.

• Non-profits that do not have a 501(c)(3) status with the IRS, other than institutions of higher education.

• Private institutions of higher education.

• For-profit organization other than small businesses.

• Small businesses.

• Others (See Additional Information on Eligibility below.)

Additional Information on Eligibility: Eligible applicants are agencies or organizations with expertise in training early childhood personnel. These include colleges and universities, private or public non-profit or for-profit organizations, or associations in the field of early childhood education or the related fields of child development, child care, and family studies. Only incorporated agencies and organizations are eligible to apply. Faith-based and community-based organizations are eligible to apply. Individuals are not eligible to apply under this announcement.

On applications developed jointly by more than one agency or organization, the application must identify only one organization as the lead organization and the official applicant.

Please see Section IV for required documentation supporting eligibility or funding restrictions if any are applicable.

2. Cost Sharing/Matching

None.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors: Applications that exceed the ceiling amount will be considered non-responsive and will not be considered for funding under this announcement.

Any application that fails to satisfy the deadline requirements referenced in Section IV.3 will be considered non-responsive and will not be considered for funding under this announcement.

IV. Application and Submission Information

1. Address To Request Application Package

The Child Development Associate National Credentialing Program, The Dixon Group, ACYF Operations Center, 118 Q Street, NE., Washington, DC 20002, Phone: 1-800-351-2293, e-mail: HSB@Dixongroup.com.

2. Content and Form of Application Submission

Standard instructions for application content can be found in Section V.1. Applicants are advised to follow the format outlined in Section V.1. in order to address Head Start specific requirements of this expansion announcement. Additional application submission requirements are provided below.

You may submit your application to us in either electronic or paper format.

To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4726 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1 for instructions on preparing the full project description.

3. Submission Dates and Times

Due Date for Applications: September 23, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will be provided to applicants who submit their package via mail, courier services, or by hand delivery. Applicants will receive an electronic acknowledgement for applications that are submitted via http://www.Grants.gov.

Checklist

You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | See http://www.acf.hhs.gov/programs/ofs/forms.htm | By date of award.

Additional Forms

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Required form or format | When to submit
Survey for Private, Non-Profit Grant Applicants | See form | Found in http://www.acf.hhs.gov/programs/ofs/forms.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade, SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

Construction and the purchase of real property are not allowable activities or expenditures under this grant award.

6. Other Submission Requirements

Submission by Mail: An applicant must provide an original application with all attachments, signed by an authorized representative and two copies. Please see Section IV.3 for an explanation of due dates. Applications should be mailed to: ACYF Operations Center, CDA National Credentialing Program, 118 Q Street, NE., Washington, DC 20002.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: ACYF Operations Center, CDA National Credentialing Program, 118 Q Street, NE., Washington, DC 20002.

Electronic Submission: Please see Section IV.2 for guidelines and requirements when submitting applications electronically via http://www.Grants.gov.

V. Application Review Information

The Paperwork Reduction Act of 1995 (P.L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summry/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

For example, describe the extent to which the applicant's recommendations and possible strategies for enhancing the current CDA National Credentialing Program system, the number of CDA candidates to be credentialed annually and the extent to which the assessment and credentialing fee is affordable to potential candidates.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Geographic Location

Describe the precise location of the project and boundaries of the area to be served by the proposed project. Maps or other graphic aids may be attached.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Evaluation Criteria

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—50 points

The extent to which the applicant identifies qualified staff with the necessary educational and experiential backgrounds. The extent to which the application documents the background of the proposed project director and other proposed project staff (i.e., names, training, most relevant educational background and other qualifying experiences along with resumes and short descriptions of their proposed responsibilities or contributions to the applicant's work plan). The extent to which the experience of the applicant in administering a project like the one proposed and the applicant's ability to effectively and efficiently administer this project may be demonstrated by:

• Documentation that the applicant organization is capable of implementing and maintaining a centralized, National Child Development Associate Credentialing Program for: (1) Teachers of preschool-age children, (2) teachers of infants and toddlers in center-based programs, (3) home visitors, and (4) family child care providers.

• Description of how the applicant will work with ACYF in implementing the cooperative agreement to carry out the legislative requirements for qualified staff.

• Description of how the applicant will work with ACYF to maintain the candidate cost for the assessment and credential award at $325; $15 for the applicant package and $50 for credential renewal.

• Description of how the applicant will identify staff and activities to establish and maintain a working relationship with State Licensing Offices, Head Start State Collaboration Offices, Head Start Technical Assistance Network, and colleges and universities to increase the recognition of the CDA Credential.

• Description of how the applicant will structure and utilize a nationally representative group, which will meet annually, and lists the types of professional and paraprofessional representation they would seek in order to be most knowledgeable about relevant Head Start, Early Head Start, other public and private, for-profit and non-profit agencies whose staff seek CDA credentialing.

• Description of how the applicant will develop, establish, and maintain a process to identify each State-awarded certificate(s) for preschool teachers and infant and toddler teachers; and a description of how the applicant will determine if it is equivalent to the CDA credential and thus meets the Head Start Teacher Qualifications Mandate of 1998.

Objectives and Need for Assistance—20 points

The extent to which the application clearly identifies the physical, economic, social, financial, institutional, and/or other problem(s) requiring a solution. The extent to which the need for assistance is demonstrated; and the principal and subordinate objectives of the project are clearly stated. (Note: Supporting documentation, such as letters of support and testimonials from concerned interests other than the applicant, may be included.) The extent to which any relevant data based on planning studies is included or referred to in the endnotes/footnotes. The extent to which the application incorporates demographic data and participant/beneficiary information, as needed. In developing the project description, the extent to which the applicant volunteers or responds to requests to provide information on the total range of projects currently being conducted and supported (or to be initiated) of which some may be outside the scope of the program announcement.

Budget and Budget Justification—15 points

The extent to which the application provides a line-item detail and detailed calculations for each budget object class identified on the Budget Information form. Detailed calculations must include estimation methods, quantities, unit costs, and other similar quantitative detail sufficient for the calculation to be duplicated.

The extent to which the application provides a narrative budget justification that describes how the categorical costs are derived and discusses the necessity, reasonableness, and allocation of the proposed costs.

Results or Benefits Expected—15 points

The extent to which the application identifies the results and benefits to be derived. For example, the extent to which the application describes recommendations and possible strategies for enhancing the current CDA National Credentialing Program system, the number of CDA candidates to be credentialed annually, and a description of procedures to ensure that candidates from American Indian and Migrant programs will receive accelerated processing of their applications, candidate assessment, and credential award, if successful. The extent to which the assessment and credentialing fee is affordable to potential candidates.

2. Review and Selection Process

No grant award will be made under this announcement on the basis of an incomplete application.

A panel of four non-federal reviewers will be convened in Washington, DC, to read and score each application based on the published criteria. The panel's scores and recommendations will be forwarded to the ACYF Commissioner who will make the ultimate selection.

Since ACF will be using non-federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

VI. Award Administration Information

1. Award Notices

The successful applicants will be notified through the issuance of a Financial Assistance Award document which sets forth the amount of funds granted, the terms and conditions of the grant, the effective date of the grant, the budget period for which initial support will be given, the non-federal share to be provided (if applicable), and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental).

Direct Federal grants, sub-award funds, or contracts under this ACF program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at: http://www.os.dhhs.gov/fbci/waisgate21.pdf.

3. Reporting Requirements

Grantees will be required to submit program progress and financial reports (SF-269) found at http://www.acf.hhs.gov/programs/ofs/forms.htm) throughout the project period. Program progress and financial reports are due 30 days after the reporting period. Final programmatic and financial reports are due 90 days after the close of the project period.

Program Progress Reports: Quarterly .

Financial Reports: Quarterly.

VII. Agency Contacts

Program Office Contact:

Jean Simpson, Administration on Children, Youth and Families, Head Start Bureau, 330 C Street, SW., Washington, DC 20447, Phone: (202) 205-8418, e-mail: Jsimpson@acf.hhs.gov.

Grants Management Office Contact:

Delores Dickerson, Grants Officer, Administration on Children and Families, 330 C Street, SW., Room 2218, Washington, DC 20447, Phone: (202) 260-7622, e-mail: dedickenson@acf.hhs.gov.

VIII. Other Information

Notice: Beginning with FY 2006, the Administration for Children and Families (ACF) will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

Please reference Section IV.3 for details about acknowledgement of received applications.

Dated: July 18, 2005.
Joan E. Ohl,
Commissioner, Administration on Children, Youth and Families.

[FR Doc. 05-14557 Filed 7-22-05; 8:45 am]

BILLING CODE 4184-01-P